FEDERAL COMMUNICATIONS COMMISSION

[Report No. 2655]

Petitions for Reconsideration and Clarification of Action in Rulemaking Proceeding

April 5, 2004.

Petitions for Reconsideration and Clarification have been filed in the Commission's Rulemaking proceeding listed in this Public Notice. The full text of this document is available for viewing and copying in Room CY-A257, 445 12th Street, SW., Washington, DC, or may be purchased froms the Commission's copy contractor, Quales International, (202) 863-2893. Oppositions to these petitions must be filed by April 29, 2004. See § 1.4(b)(1) of the Commission's rules (47 CFR 1.4(b)(1)). Replies to an opposition must be filed within 10 days after the time for filing oppositions have expired.

Subject: In the Matter of Implementation of Section 304 of the Telecommunications Act of 1996 (CS Docket No. 97-80); Commercial Availability of Navigation Devices; Compatibility Between Cable Systems and Consumer Electronics Equipment (PP Docket No. 00-67).

Number of Petitions Filed: 2.

Marlene H. Dortch,
Secretary.

[FR Doc. 04-8485 Filed 4-13-04; 8:45 am]

BILLING CODE 6712-01-M